DEPARTMENT OF COMMERCE

National Oceanic and Atmospheric Administration

RIN 0648-XA138

Pacific Fishery Management Council; Public Meeting

AGENCY: National Marine Fisheries Service (NMFS), National Oceanic and Atmospheric Administration (NOAA), Commerce.

ACTION: Notice of public meetings.

SUMMARY: The Pacific Fishery Management Council (Pacific Council) will hold two consecutive meetings related to west coast CPS fisheries. The Coastal Pelagic Species Management Team (CPSMT) will meet February 1-2, 2011; and the CPS Methodology Review Panel will meet February 3-5, 2011. Both meetings are open to the public.

DATES: The CPSMT meeting will be held Tuesday, February 1 through Wednesday, February 2, 2011. Business will begin each day at 8:30 a.m. and conclude at 5 p.m. or until business for the day is completed. The CPS Methodology Review Panel will meet February 3-5, 2011. Business will begin each day at 8:30 a.m. and conclude at 5 p.m. or until business for the day is completed.

ADDRESSES: The meetings will be held in the Large Conference Room of the National Marine Fisheries Service's Southwest Fisheries Science Center, Torrey Pines Campus; 8604 La Jolla Shores Drive, La Jolla, CA 92037.

FOR FURTHER INFORMATION CONTACT: Kerry Griffin, Staff Officer; telephone: (503) 820-2280.

SUPPLEMENTARY INFORMATION: The purpose of the CPSMT meeting is: (1) To initiate discussion of potential changes to the Pacific sardine Harvest Control Rule, based on recent evidence indicating that using the sea surface temperature at Scripps Pier may be an unreliable basis for setting harvest guidelines; (2) to discuss potential improvements to the market squid Acceptable Biological Catch (ABC) and Overfishing Limit (OFL); (3) election of officers; and (4) to initiate discussion and develop a statement for the March, 2011 Council meeting regarding potential requests to utilize the Council's 4,200 mt Exempted Fishing Permit set-aside. Other issues relevant to coastal pelagic species fisheries management and science may be addressed as time permits.

The purpose of the CPS Methodology Review Panel meeting is to consider acoustic-trawl survey and data analysis methods, to assess their utility in stock assessment models to monitor trends at the population level for Pacific sardine and other CPS stocks.

Although non-emergency issues not contained in the meeting agenda may come before the CPSMT and Methodology Review Panel for discussion, those issues may not be the subject of formal action during this meeting. CPSMT and Methodology Review Panel action will be restricted to those issues specifically listed in this notice and any issues arising after publication of this notice that require emergency action under Section 305(c) of the Magnuson-Stevens Fishery Conservation and Management Act, provided the public has been notified of the CPSMT's and Methodology Review Panel's intent to take final action to address the emergency.

Special Accommodations

These meetings are physically accessible to people with disabilities. Requests for sign language interpretation or other auxiliary aids should be directed to Mr. Kris Kleinschmidt at (503) 820-2280 at least 5 days prior to the meeting date.

Dated: January 7, 2011.
Tracey L. Thompson,
Acting Director, Office of Sustainable Fisheries, National Marine Fisheries Service.

[FR Doc. 2011-518 Filed 1-11-11; 8:45 am]

BILLING CODE 3510-22-P